POSTAL SERVICE

Product Change—Priority Mail Express, Priority Mail, and USPS Ground Advantage Negotiated Service Agreements; Priority Mail, and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: July 16, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with postal regulatory commission | Negotiated service agreement product category and No. | MC docket number | K docket number
06/27/25 | PM-GA 794 | MC2025-1549 | K2025-1543
06/30/25 | PM-900 | MC2025-1550 | K2025-1544
07/01/25 | PM-GA 795 | MC2025-1551 | K2025-1545
07/01/25 | PME-PM-GA 1383 | MC2025-1552 | K2025-1546
07/01/25 | PME-PM-GA-1384 | MC2025-1553 | K2025-1547
07/01/25 | PM-GA 796 | MC2025-1554 | K2025-1548
07/02/25 | PM 901 | MC2025-1555 | K2025-1549
07/03/25 | PME-PM-GA 1385 | MC2025-1556 | K2025-1550
07/03/25 | PM 902 | MC2025-1557 | K2025-1551
07/03/25 | PM-GA 797 | MC2025-1558 | K2025-1552
07/03/25 | PM-GA 798 | MC2025-1559 | K2025-1553
07/07/25 | PM-GA 799 | MC2025-1560 | K2025-1554
07/08/25 | PME-PM-GA 1386 | MC2025-1561 | K2025-1555
07/08/25 | PME-PM-GA 1387 | MC2025-1562 | K2025-1556
07/08/25 | PM 903 | MC2025-1563 | K2025-1557
07/09/25 | PM 904 | MC2025-1564 | K2025-1558
07/09/25 | PM 906 | MC2025-1567 | K2025-1560
07/10/25 | PME-PM-GA 1388 | MC2025-1568 | K2025-1561
07/10/25 | PME-PM-GA 1389 | MC2025-1569 | K2025-1562
07/10/25 | PME-PM-GA 1390 | MC2025-1571 | K2025-1564
07/11/25 | PM 907 | MC2025-1572 | K2025-1565
07/11/25 | PM-GA 800 | MC2025-1573 | K2025-1566

Documents are available at www.prc.gov.

Sean C. Robinson,
Attorney, Corporate and Postal Business Law.

[FR Doc. 2025-13266 Filed 7-15-25; 8:45 am]

BILLING CODE 7710-12-P